SECURITIES AND EXCHANGE COMMISSION

Proposed Extension of Existing Collection; Comment Request

Upon Written Request, Copies Available From: Securities and Exchange Commission, Office of Investor Education and Advocacy, Washington, DC 20549-0213.

Extension:

Rule 204, OMB Control No. 3235-0647, SEC File No. 270-586.

Notice is hereby given that pursuant to the Paperwork Reduction Act of 1995 (44 U.S.C. 3501 et seq.), the Securities and Exchange Commission (“Commission”) is soliciting comments on the collection of information summarized below. The Commission plans to submit this existing collection of information to the Office of Management and Budget for extension and approval.

Rule 204 (17 CFR 242.204) under the Securities Exchange Act of 1934 (15 U.S.C. 78a et seq.) requires that, subject to certain limited exceptions, if a participant of a registered clearing agency has a fail to deliver position at a registered clearing agency it must immediately close out the fail to deliver position by purchasing or borrowing securities by no later than the beginning of regular trading hours on the settlement day following the day the participant incurred the fail to deliver position. Rule 204 is intended to help further the Commission's goal of reducing fails to deliver by maintaining the reductions in fails to deliver achieved by the adoption of temporary Rule 204T, as well as other actions taken by the Commission. In addition, Rule 204 is intended to help further the Commission's goal of addressing abusive “naked” short selling in all equity securities.

Several provisions under Rule 204 will impose a “collection of information” within the meaning of the Paperwork Reduction Act.

I. Allocation Notification Requirement: It is estimated that the active broker-dealer respondents registered with the Commission incur an aggregate burden of 394,626 hours per year to comply with this provision of Rule 204.

II. Demonstration Requirement for Fails to Deliver on Long Sales: It is estimated that the active broker-dealer respondents registered with the Commission incur an aggregate burden of 270,063 hours per year to comply with this provision of Rule 204.

III. Pre-Borrow Notification Requirement: It is estimated that the active broker-dealer respondents registered with the Commission incur an aggregate burden of 397,152 hours per year to comply with this provision of Rule 204.

IV. Certification Requirement: It is estimated that the active broker-dealer respondents registered with the Commission incur an aggregate burden of 394,626 hours per year to comply with this provision of Rule 204.

V. Pre-Fail Credit Demonstration Requirement: It is estimated that the active broker-dealer respondents registered with the Commission incur an aggregate burden of 394,626 hours per year to comply with this provision of Rule 204.

Written comments are invited on: (a) Whether the proposed collection of information is necessary for the proper performance of the functions of the Commission, including whether the information will have practical utility; (b) the accuracy of the Commission's estimate of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Comments should be directed to Charles Boucher, Director/Chief Information Officer, Securities and Exchange Commission, c/o Shirley Martinson, 6432 General Green Way, Alexandria, Virginia 22312 or send an e-mail to: PRA_Mailbox@sec.gov.

Dated: July 29, 2009.
Florence E. Harmon,
Deputy Secretary.

[FR Doc. E9-18560 Filed 8-3-09; 8:45 am]

BILLING CODE 8010-01-P